DEPARTMENT OF JUSTICE

Notice of Lodging of Partial Consent Decree Under the Clean Water Act

Notice is hereby given that on August 15, 2006, a proposed Second Partial Consent Decree in United States v. City of San Diego, Civil Action No. 03-CV-1349K (POR), was lodged with the United States District Court for the Southern District of California. The United States' action is consolidated with San Diego Baykeeper, et al. v. City of San Diego, Civil Action No. 01-CV-0550B (POR), and State of California v. City of San Diego, Civil Action No. 03-CV-1381J (POR).

In this action the United States seeks penalties and injunctive relief to address sanitary sewer overflows and other violations of the Clean Water Act (“Act”) and the City of San Diego's National Pollutant Discharge Elimination System Permit.

Under this Second Partial Consent Decree, the City will, among other requirements: (1) Inspect, rehabilitate, and replace portions of the sewer system; (2) control root problems; (3) clean a specified amount of sewer pipe; (4) implement a grease blockage control program; and (5) perform analyses of canyon-based sewer lines.

The Department of Justice will receive for a period of thirty (30) days from the date of this publication comments relating to the Second Partial Consent Decree. Comments should be addressed to the Assistant Attorney General, Environment and Natural Resources Division, P.O. Box 7611, U.S. Department of Justice, Washington, DC 20044-7611, and should refer to United States v. City of San Diego, Civil Action No. 03-CV-1349K (POR), D.J. Ref. 90-5-1-1-4364/1.

The Second Partial Consent Decree may be examined at U.S. EPA Region 9, 75 Hawthorne Street, San Francisco, California 94105. During the public comment period, the Second Partial Consent Decree may also be examined on the following Department of Justice Web site at http://www.usdoj.gov/enrd/Consent_Decrees.html. A copy of the Second Partial Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $13.75 (25 cents per page reproduction cost) payable to the U.S. Treasury or, if by e-mail or fax, forward a check in that amount to the Consent Decree Library at the stated address.

Henry Friedman,
Assistant Section Chief, Environmental Enforcement Section, Environment and Natural Resources Division.

[FR Doc. 06-7531 Filed 9-8-06; 8:45 am]

BILLING CODE 4410-15-M